DEPARTMENT OF JUSTICE

Notice of Lodging of Consent Decree Under the Comprehensive Environmental Response, Compensation, and Liability Act

Notice is hereby given that on November 9, 2011, a proposed consent decree with D&L Sales, Inc. (“Consent Decree”) in United States vs. D&L Sales, Inc., Civil Action No. 11-cv-01193 was lodged with the United States District Court for the Western District of Michigan.

The proposed Consent Decree resolves cost recovery and contribution claims under the Comprehensive Environmental Response, Compensation, and Liability Act, 42 U.S.C. 9601-9675, against D&L Sales, Inc. and the Department of Defense, arising from radiological and chemical contamination at the Aircraft Components Inc. Superfund Site near Benton Harbor, Michigan. Under the proposed ability-to-pay Consent Decree, D&L Sales, which has incurred response costs exceeding $675,000 to date, will implement institutional controls to protect the remedy. The Department of Defense will pay $5,649,438 to resolve its alleged contribution liability at the Site.

The Department of Justice will receive for a period of 30 days from the date of this publication comments relating to the Consent Decree. Comments should be addressed to the Assistant Attorney General, Environment and Natural Resources Division, and either emailed to pubcomment-ees.enrd@usdoj.gov or mailed to P.O. Box 7611, U.S. Department of Justice, Washington, DC 20044-7611, and should refer to United States v. D&L Sales, Inc., D.J. Ref. 90-11-3-08695.

During the public comment period, the Consent Decree, may also be examined on the following Department of Justice Web site, http://www.usdoj.gov/enrd/Consent_Decrees.html. A copy of the Consent Decree may also be obtained by mail from the Consent Decree Library, P.O. Box 7611, U.S. Department of Justice, Washington, DC 20044-7611 or by faxing or emailing a request to Tonia Fleetwood (tonia.fleetwood@usdoj.gov), fax no. (202) 514-0097, phone confirmation number (202) 514-1547. In requesting a copy from the Consent Decree Library, please enclose a check in the amount of $22.25 (25 cents per page reproduction cost) payable to the U.S. Treasury or, if by email or fax, forward a check in that amount to the Consent Decree Library at the stated address.

Maureen Katz,
Assistant Chief, Environmental Enforcement Section, Environment and Natural Resources Division.

[FR Doc. 2011-29571 Filed 11-15-11; 8:45 am]

BILLING CODE 4410-15-P